DEPARTMENT OF HEALTH AND HUMAN SERVICES

Food and Drug Administration

[Docket No. FDA-2010-N-0004]

Memorandum of Understanding Between the Food and Drug Administration, United States Department of Health and Human Services and the National Alliance for Hispanic Health

AGENCY: Food and Drug Administration, HHS.

ACTION: Notice.

SUMMARY: The Food and Drug Administration (FDA) is providing notice of a memorandum of understanding (MOU) between the Food and Drug Administration, U.S. Department of Health and Human Services and the National Alliance for Hispanic Health. The purpose of the MOU is to establish the terms for collaboration to enhance the diversity pool of candidates and to promote shared interests in increasing science and public health internship opportunities for socio-economically disadvantaged students.

DATES: The agreement became effective January 21, 2010.

FOR FURTHER INFORMATION CONTACT: Mary C. Hitch, Senior Policy Advisor, Office of External Relations, Food and Drug Administration, 5600 Fishers Lane, rm. 15A07, Rockville, MD 20857, 301-827-4406.

SUPPLEMENTARY INFORMATION: In accordance with 21 CFR 20.108(c), which states that all written agreements and MOUs between FDA and others shall be published in the Federal Register, the agency is publishing notice of this MOU.

Dated: March 29, 2010.
Leslie Kux,
Acting Assistant Commissioner for Policy.

BILLING CODE 4160-01-S

[FR Doc. 2010-7673 Filed 4-5-10; 8:45 am]

BILLING CODE 4160-01-C